NUCLEAR REGULATORY COMMISSION

[NRC-2008-0539]

Final Regulatory Guide: Issuance, Availability

AGENCY: Nuclear Regulatory Commission.

ACTION: Notice of Issuance and Availability of Regulatory Guide, RG 5.73.

FOR FURTHER INFORMATION CONTACT: Michael Boggi, U.S. Nuclear Regulatory Commission, Washington, DC 20555-0001, telephone: (301) 415-5309 or e-mail to Michael.Boggi@nrc.gov.

SUPPLEMENTARY INFORMATION:

I. Introduction

The U.S. Nuclear Regulatory Commission (NRC or Commission) is issuing a new guide in the agency's “Regulatory Guide” series. This series was developed to describe and make available to the public information such as methods that are acceptable to the NRC staff for implementing specific parts of the agency's regulations, techniques that the staff uses in evaluating specific problems or postulated accidents, and data that the staff needs in its review of applications for permits and licenses

RG 5.73, “Fatigue Management for Nuclear Power Plant Personnel,” was issued with a temporary identification as Draft Regulatory Guide, DG-5026. This guide describes a method that the staff of the NRC considers acceptable for complying with the Commission's regulations for managing personnel fatigue at nuclear power plants. The regulations established by the NRC in Title 10, part 26, “Fitness for Duty Programs,” of the Code of Federal Regulations (10 CFR part 26) establish requirements for ensuring that personnel are fit to safely and competently perform their duties. Subpart I, “Managing Fatigue,” of 10 CFR part 26 establishes requirements for managing personnel fatigue at nuclear power plants. The regulations in subpart I provide a comprehensive and integrated approach to fatigue management, taking into account the multiple causes and effects of worker fatigue. The Commission recognizes that the potential for excessive fatigue is not solely based on extensive work hours but can result from other factors, such as stressful working conditions, sleep disorders, accumulation of sleep debt, and the disruptions of circadian rhythms associated with shift work. The requirements of the rule reflect these considerations to ensure that licensees effectively manage worker fatigue and provide reasonable assurance that workers are able to safely and competently perform their duties.

II. Further Information

In September 2008, DG-5026 was published with a public comment period of 45 days from the issuance of the guide. The public comment period closed on October 31, 2008. The staff's responses to the public comments received are included with the guide as Appendix B, “Response to Public Comments.” They are also located in the NRC's Agencywide Documents Access and Management System under Accession Number ML083540269. Electronic copies of RG 5.73 are available through the NRC's public Web site under “Regulatory Guides” at http://www.nrc.gov/reading-rm/doc-collections/.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 10th day of March, 2009.
For the Nuclear Regulatory Commission.
Andrea D. Valentin,
Chief, Regulatory Guide Development Branch, Division of Engineering, Office of Nuclear Regulatory Research.

[FR Doc. E9-6105 Filed 3-19-09; 8:45 am]

BILLING CODE 7590-01-P